DEPARTMENT OF COMMERCE

National Oceanic and Atmospheric Administration

RIN 0648-XE576

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team (CPT) will meet May 9, 2016 through May 12, 2016.

DATES: The meeting will be held on Monday May 9, 2016, through Thursday May 12, 2016, from 9 a.m. to 4:30 p.m.

ADDRESSES: The meeting will be held in the Birch/Willow room at the Hilton Hotel, 500 W. 3rd Ave., Anchorage, Alaska 99501.

Council address: North Pacific Fishery Management Council, 605 W. 4th Ave., Suite 306, Anchorage, AK 99501-2252; telephone (907) 271-2809.

FOR FURTHER INFORMATION CONTACT: Diana Stram, Council staff; telephone: (907) 271-2809.

SUPPLEMENTARY INFORMATION:

Agenda

Monday, May 9, 2016 Through Thursday, May 12, 2016

The agenda includes final assessment on OFL (over fishing limit) and ABC (acceptable biological catch) catch for PIGKC (Pribilof Islands Golden King Crab) and WAIRKC (Western Aleutian Red King Crab), final Tier 5 Assessment and research foundation update for AIGKC (Aleutian Island Golden King Crab), model development and application to SMBKC (St. Matthew Blue King Crab) and BBRKC (Bristol Bay Red King Crab), model discussions and scenarios for September assessment for Tanner Crab, PIRKC (Pribilof Island Red King Crab) and Snow Crab and Essential Fish Habitat review and update, research priorities, and finalize Stock Assessment and Fishery Evaluation.

The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Authority: 16 U.S.C. 1801 et seq.

Dated: April 19, 2016.
Tracey L. Thompson,
Acting Director, Office of Sustainable Fisheries, National Marine Fisheries Service.

[FR Doc. 2016-09364 Filed 4-21-16; 8:45 am]

BILLING CODE 3510-22-P